DEPARTMENT OF COMMERCE

International Trade Administration

[A-533-908]

Barium Chloride From India: Preliminary Negative Determination of Sales at Less Than Fair Value, Postponement of Final Determination

AGENCY: Enforcement and Compliance, International Trade Administration, Department of Commerce.

SUMMARY: The U.S. Department of Commerce (Commerce) preliminarily determines that barium chloride from India is not being, or is not likely to be, sold in the United States at less than fair value (LTFV). The period of investigation (POI) is January 1, 2021, through December 31, 2021. Interested parties are invited to comment on this preliminary determination.

DATES: Applicable August 17, 2022.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

This preliminary determination is made in accordance with section 733(b) of the Tariff Act of 1930, as amended (the Act). Commerce published the notice of initiation of this investigation on February 8, 2022.¹ On May 20, 2022, Commerce postponed the preliminary determination of this investigation until August 10, 2022.²

¹ See Barium Chloride from India: Initiation of Less-Than-Fair-Value Investigation, 87 FR 7100 (February 8, 2022) (Initiation Notice).

² See Barium Chloride from India: Postponement of Preliminary Determination in the Less-Than-Fair-Value Investigation, 87 FR 30871 (May 20, 2022).

For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Determination in the Less-Than-Fair-Value Investigation of Barium Chloride from India” dated concurrently with, and hereby adopted by, this notice (Preliminary Decision Memorandum).

Scope of the Investigation

The product covered by this investigation is barium chloride from India. For a complete description of the scope of this investigation, see Appendix I.

Scope Comments

In accordance with the preamble to Commerce's regulations,⁴ the Initiation Notice set aside a period of time for parties to raise issues regarding product coverage (i.e., scope).⁵ One interested party commented on the scope of the investigation as it appeared in the Initiation Notice. On July 6, 2022, Commerce issued its preliminary determination regarding the scope of the investigation.⁶ For a summary of the product coverage comments submitted to the record for this investigation, and accompanying analysis of all comments timely received, see the Preliminary Scope Decision Memorandum. Based on an analysis of the comments received, Commerce preliminarily determined to make no changes to the scope language as it appeared in the Initiation Notice. See the scope in Appendix I to this notice. Commerce established a separate briefing schedule for interested parties to address the preliminary scope determination.⁷ No parties filed scope case briefs addressing the Preliminary Scope Decision Memorandum.

⁴ See Antidumping Duties; Countervailing Duties, Final Rule, 62 FR 27296, 27323 (May 19, 1997).

⁵ See Initiation Notice, 87 FR at 7104.

⁶ See Memorandum, “Antidumping and Countervailing Duty Investigations of Barium Chloride from India: Preliminary Scope Decision Memorandum,” dated July 6, 2022 (Preliminary Scope Decision Memorandum).

⁷ Id. at 1.

Methodology

Commerce is conducting this investigation in accordance with section 731 of the Act. Commerce has calculated export prices in accordance with section 772(a) of the Act. Normal value is calculated in accordance with section 773 of the Act. For a full description of the methodology underlying the preliminary determination, see the Preliminary Decision Memorandum.

Preliminary Determination

Commerce preliminarily determines that the following estimated weighted-average dumping margin exists:

⁸ Commerce preliminarily determines that Chaitanya Chemicals (Chaitanya) and Chaitanya Barium India Pvt Ltd (CBI) should be treated as a single entity (collectively, Chaitanya/CBI), in accordance with section 771(33)(A) and (F) of the Act and 19 CFR 351.401(f). See Preliminary Decision Memorandum. For a complete discussion, see Memorandum, “Preliminary Affiliation and Collapsing Memorandum: Less-Than-Fair-Value Investigation of Barium Chloride from India,” dated concurrently with this memorandum.

Exporter/producer | Estimated weighted- average dumping margin (percent)
Chaitanya Chemicals/Chaitanya Barium India Pvt Ltd ⁸ | 0.00

Commerce preliminarily determines that Chaitanya/CBI has not made sales of barium chloride at LTFV. Further, because Chaitanya/CBI, the only individually examined respondent in this investigation, is the only party for which an estimated weighted-average dumping margin has been calculated for this preliminary determination, Commerce preliminarily determines that barium chloride from India has not been sold in the United States at LTFV during the POI, and Commerce is publishing this notice of a negative preliminary determination.

Consistent with section 733(d) of the Act, Commerce has not calculated an estimated weighted-average dumping margin for all other producers and exporters because it has not made an affirmative preliminary determination of sales at LTFV.

Suspension of Liquidation

Because Commerce has made a negative preliminary determination of sales at LTFV with regard to subject merchandise, Commerce will not direct U.S. Customs and Border Protection to suspend liquidation or to require a cash deposit of estimated antidumping duties for entries of barium chloride from India.

Disclosure

Commerce intends to disclose its calculations and analysis performed to interested parties in this preliminary determination within five days of any public announcement or, if there is no public announcement, within five days of the date of publication of this notice in accordance with 19 CFR 351.224(b).

Verification

As provided in section 782(i)(1) of the Act, Commerce intends to verify the information relied upon in making its final determination.

Public Comment

Case briefs or other written comments on non-scope issues may be submitted to the Assistant Secretary for Enforcement and Compliance.⁹ Interested parties will be notified of the timeline for the submission of such case briefs and written comments at a later date. Rebuttal briefs, limited to issues raised in case briefs, may be submitted no later than seven days after the deadline date for case briefs.¹⁰ Note that Commerce has temporarily modified certain of its requirements for serving documents containing business proprietary information, until further notice.¹¹ Pursuant to 19 CFR 351.309(c)(2) and (d)(2), parties who submit case briefs or rebuttal briefs in this investigation are encouraged to submit with each argument: (1) a statement of the issue; (2) a brief summary of the argument; and (3) a table of authorities.

⁹ Case briefs, other written comments, and rebuttal briefs submitted by parties in response to this preliminary LTFV determination should not include scope-related issues. The scope case briefs deadline was July 20, 2022. See Preliminary Scope Decision Memorandum at 1.

¹⁰ See 19 CFR 351.309; see also 19 CFR 351.303 (for general filing requirements).

¹¹ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Postponement of Final Determination

Section 735(a)(2) of the Act provides that a final determination may be postponed until not later than 135 days after the date of the publication of the preliminary determination if, in the event of a negative preliminary determination, a request for such postponement is made by the petitioner. Pursuant to 19 CFR 351.210(e), on July 28, 2022, Chemical Products Corporation (the petitioner) requested that Commerce postpone the final determination in the event of a negative preliminary determination.¹² In accordance with section 735(a)(2)(B) of the Act and 19 CFR 351.210(b)(2)(i), because: (1) the preliminary determination is negative; (2) the petitioner has requested postponement of the final determination; and (3) no compelling reasons for denial exist, Commerce is postponing the final determination. Accordingly, Commerce will make its final determination no later than 135 days after the date of publication of this preliminary determination, pursuant to section 735(a)(2) of the Act.

¹² See Petitioner's Letter, “Antidumping Investigation of Barium Chloride from India: Petitioner's Request for Postponement of Final Determination,” dated July 28, 2022.

U.S. International Trade Commission Notification

In accordance with section 733(f) of the Act, Commerce will notify the U.S. International Trade Commission (ITC) of its preliminary determination. If Commerce's final determination is affirmative, then the ITC will determine before the later of 120 days after the date of this preliminary determination or 45 days after the final determination whether imports of barium chloride are materially injuring, or threaten material injury to, the U.S. industry.

Notification to Interested Parties

This determination is issued and published in accordance with sections 733(f) and 777(i)(1) of the Act, and 19 CFR 351.205(c).

Dated: August 10, 2022.
Lisa W. Wang,
Assistant Secretary for Enforcement and Compliance.

Appendix I

Scope of the Investigation

The merchandise covered by this investigation is barium chloride, a chemical compound having the formulas BaCl2 or BaCl2-2H2O, currently classifiable under subheading 2827.39.4500 of the Harmonized Tariff Schedule of the United States (HTSUS). Although the HTSUS subheading is provided for convenience and customs purposes, the written description of the scope of this investigation is dispositive.

Appendix II

List of Topics Discussed in the Preliminary Decision Memorandum

I. Summary

II. Background

III. Period of Investigation

IV. Scope of the Investigation

V. Affiliation/Single Entity Treatment

VI. Discussion of the Methodology

VII. Currency Conversion

VIII. Recommendation

[FR Doc. 2022-17622 Filed 8-16-22; 8:45 am]

BILLING CODE 3510-DS-P